DEPARTMENT OF TRANSPORTATION

Federal Aviation Administration

14 CFR Part 39

[Docket No. FAA-2011-1040; Directorate Identifier 2011-CE-029-AD; Amendment 39-16889; AD 2011-26-01]

RIN 2120-AA64

Airworthiness Directives; Piaggio Aero Industries S.p.A. Airplanes

AGENCY: Federal Aviation Administration (FAA), Department of Transportation (DOT).

ACTION: Final rule.

SUMMARY: We are adopting a new airworthiness directive (AD) for Piaggio Aero Industries S.p.A. Model P-180 airplanes. This AD results from mandatory continuing airworthiness information (MCAI) issued by an aviation authority of another country to identify and correct an unsafe condition on an aviation product. The MCAI describes the unsafe condition as the baggage door lockpins not engaging properly and the baggage door open light illuminating when the baggage door is not open, which could lead to the pilot disregarding a valid warning. We are issuing this AD to require actions to address the unsafe condition on these products.

DATES: This AD is effective January 17, 2012.

The Director of the Federal Register approved the incorporation by reference of certain publications listed in the AD as of January 17, 2012.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Piaggio Aero Industries S.p.A-Airworthiness Office, Via Luigi Cibrario, 4-16154 Genova-Italy; phone: +39 010 6481353; fax: +39 010 6481881; email: airworthiness@piaggioaero.it; Internet: http://www.piaggioaero.com/#/en/after-sales/service-support. You may review copies of the referenced service information at the FAA, Small Airplane Directorate, 901 Locust, Kansas City, Missouri 64106. For information on the availability of this material at the FAA, call (816) 329-4148.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 to include an AD that would apply to the specified products. That NPRM was published in the Federal Register on September 29, 2011 (76 FR 60396). That NPRM proposed to correct an unsafe condition for the specified products. The MCAI states:

One event of in-flight baggage door opening occurred on an in-service aeroplane due to a defective locking mechanism or installation thereof; the BAG DOOR warning light went on properly before the event, but was ignored by the pilot, who misinterpreted it as a false warning.

NOTE: false in-service BAG DOOR warnings had occurred on other P.180 aeroplanes, and Piaggio Aero Industries (PAI) had issued Service Bulletin (SB) No. 80-0223 revision 1 to improve the installation of the baggage door warning microswitch and to modify the locking mechanism if necessary.

This condition, if not detected and corrected, could lead to in-flight detachment of the door, which could hit and damage the left propeller and/or the vertical or horizontal stabilizer, possibly resulting in loss of control of the aeroplane, or in injuries to persons or damage to property on the ground.

This AD requires an inspection of the locking mechanism of the baggage door and its proper adjustment, in accordance with PAI SB No. 80-0289 revision 1; if baggage door lockpins do not reach the correct engagement, or false BAG DOOR warnings were reported by flight crew, this AD requires also a modification of the door mechanism in accordance with PAI SB No. 80-0223 revision 1.

Instances of the baggage door open light illuminating have occurred when the baggage door was not open. This condition, if not corrected, could result in the pilot disregarding a valid warning. You may obtain further information by examining the MCAI in the AD docket.

Comments

We gave the public the opportunity to participate in developing this AD. We received no comments on the NPRM (76 FR 60396, September 29, 2011) or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a note within the AD.

Costs of Compliance

We estimate that this AD will affect 102 products of U.S. registry. We also estimate that it would take about 29 work-hours per product to comply with the basic requirements of this AD. The average labor rate is $85 per work-hour. Required parts would cost about $4,482 per product.

Based on these figures, we estimate the cost of the AD on U.S. operators to be 708,594, or $6,947 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM (76 FR 60396, September 29, 2011), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-26-01 Piaggio Aero Industries S.p.A.: Amendment 39-16889; Docket No. FAA-2011-1040; Directorate Identifier 2011-CE-029-AD.

(a) Effective Date

This airworthiness directive (AD) becomes effective January 17, 2012.

(b) Affected ADs

None.

(c) Applicability

This AD applies to Piaggio Aero Industries S.p.A. P-180 Model P-180 airplanes, serial numbers affected 1002 and 1004 through 1189, certificated in any category.

(d) Subject

Air Transport Association of America (ATA) Code 52: Doors.

(e) Reason

This AD was prompted by the baggage door lockpins not engaging properly and the baggage door open light illuminating when the baggage door is not open, which could lead to the pilot disregarding a valid warning. We are issuing this AD to detect and correct baggage door lockpins that do not engage properly and modify the locking mechanism, if necessary.

(f) Actions and Compliance

Unless already done, do the following actions:

(1) If false in-flight BAG DOOR indications have occurred, within 165 hours time-in-service (TIS) after January 17, 2012 (the effective date of this AD) or within the next 60 days after January 17, 2012 (the effective date of this AD), whichever occurs first, do the following actions:

(i) Modify the locking mechanism following the Accomplishment Instructions in Piaggio Aero Industries S.p.A. Service Bulletin No. 80-0223, Revision 1, dated July 31, 2009.

(ii) Inspect the screws on the locking device installed on the door handle for proper tightness and correct as necessary after applying a thread locker following Part D of the Accomplishment Instructions in Piaggio Aero Industries S.p.A. Mandatory Service Bulletin No. 80-0289, Revision 1, dated January 11, 2011.

(2) If false in-flight BAG DOOR indications have not occurred, within 165 hours TIS after January 17, 2012 (the effective date of this AD) or within the next 60 days after January 17, 2012 (the effective date of this AD), whichever occurs first, do the following actions:

(i) Inspect the baggage door and the baggage door locking mechanism and do the necessary corrective actions following Parts A and B of the Accomplishment Instructions in Piaggio Aero Industries S.p.A. Mandatory Service Bulletin No. 80-0289, Revision 1, dated January 11, 2011.

(ii) If after the inspection required by paragraph (f)(2)(i) of this AD, the baggage door adjustment procedure was not required or was required and was done successfully, inspect the screws on the locking device on the door handle with the proper tightness. Take any necessary corrective actions after applying a thread locker following Part D of the Accomplishment Instructions in Piaggio Aero Industries S.p.A. Mandatory Service Bulletin No. 80-0289, Revision 1, dated January 11, 2011.

(iii) If after the inspection required by paragraph (f)(2)(i) of this AD, the baggage door adjustment was required and was not done successfully, within the next 165 hours TIS after January 17, 2012 (the effective date of this AD) or within the next 60 days after January 17, 2012 (the effective date of this AD), whichever occurs first, do the following actions:

(A) Modify the locking mechanism following the Accomplishment Instructions in Piaggio Aero Industries S.p.A. Service Bulletin No. 80-0223, Revision 1, dated July 31, 2009.

(B) Inspect the screws on the locking device installed on the door handle for proper tightness and correct as necessary after applying a thread locker following Part D of the Accomplishment Instructions in Piaggio Aero Industries S.p.A. Mandatory Service Bulletin No. 80-0289, Revision 1, dated January 11, 2011.

(3) If the inspections specified in Piaggio Aero Industries S.p.A. Mandatory Service Bulletin No. 80-0289, dated November 11, 2010, and the modification, if required, specified in Piaggio Aero Industries S.p.A. Service Bulletin No. 80-0223, Revision 1, dated July 31, 2009, were done before January 17, 2012 (the effective date of this AD), we will allow “unless already done” credit to comply with the actions required in this AD. After January 17, 2012 (the effective date of this AD), you must use Piaggio Aero Industries S.p.A. Mandatory Service Bulletin No. 80-0289, Revision 1, dated January 11, 2011, to comply with this AD.

(g) FAA AD Differences

Note: This AD differs from the MCAI and/or service information as follows: No differences.

(h) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI European Aviation Safety Agency (EASA) AD No.: 2011-0132, dated July 12, 2011; Piaggio Aero Industries S.p.A. Service Bulletin No. 80-0223, Revision 1, dated July 31, 2009; Piaggio Aero Industries S.p.A. Mandatory Service Bulletin No. 80-0289, dated November 11, 2010; and Piaggio Aero Industries S.p.A. Mandatory Service Bulletin No. 80-0289, Revision 1, dated January 11, 2011, for related information.

(j) Material Incorporated by Reference

(1) You must use the following service information to do the actions required by this AD, unless the AD specifies otherwise. The Director of the Federal Register approved the incorporation by reference (IBR) under 5 U.S.C. 552(a) and 1 CFR part 51 of the following service information on January 17, 2012:

(i) Piaggio Aero Industries S.p.A. Service Bulletin No. 80-0223, Revision 1, dated July 31, 2009;

(ii) Piaggio Aero Industries S.p.A. Mandatory Service Bulletin No. 80-0289, dated November 11, 2010; and

(iii) Piaggio Aero Industries S.p.A. Mandatory Service Bulletin No. 80-0289, Revision 1, dated January 11, 2011.

(2) For service information identified in this AD, contact Piaggio Aero Industries S.p.A-Airworthiness Office, Via Luigi Cibrario, 4-16154 Genova-Italy; phone: +39 010 6481353; fax: +39 010 6481881; email: airworthiness@piaggioaero.it; Internet: http://www.piaggioaero.com/#/en/after-sales/service-support.

(3) You may review copies of the service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call (202) 741-6030, or go to http://www.archives.gov/federal_register/code_of_federal_regulations/ibr_locations.html.

Issued in Kansas City, Missouri, on December 2, 2011.
John Colomy,
Acting Manager, Small Airplane Directorate, Aircraft Certification Service.

[FR Doc. 2011-31623 Filed 12-12-11; 8:45 am]

BILLING CODE 4910-13-P